NUCLEAR REGULATORY COMMISSION

[NRC-2012-0163]

Communication With Transport Vehicles

AGENCY: Nuclear Regulatory Commission.

ACTION: Regulatory guide; withdrawal.

SUMMARY: The U.S. Nuclear Regulatory Commission (NRC or the Commission), is withdrawing Regulatory Guide 5.32, Revision 1, “Communication with Transport Vehicles,” published in May 1975. The guide is being withdrawn because it is outdated due to advances in technology.

ADDRESSES: Please refer to Docket ID NRC-2012-0163 when contacting the NRC about the availability of information regarding this document. You may access information related to this document, which the NRC possesses and are publicly-available, using any the following methods:

• Federal Rulemaking Web site: Go to http://www.regulations.gov and search for Docket ID NRC-2012-0163. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Marshall Kohen, U.S. Nuclear Regulatory Commission, Washington, DC 20555-0001, telephone: 301-415-5436, email: Marshall.Kohen@nrc.gov or Rick Jervey, telephone: 301-251-7404, email: Richard.Jervey@nrc.gov.

SUPPLEMENTARY INFORMATION:

I. Introduction

The NRC is withdrawing Regulatory Guide 5.32, revision 1, “Communication with Transport Vehicles,” published in May 1975. This RG describes radiotelephone equipment, systems, and procedures that were in use in 1975 which were found acceptable to the NRC staff for complying with the Commission's regulations within 10 Code of Federal Regulations (CFR) Part 73, (10 CFR part 73) “Physical Protection of Plants and Materials.” Other more advanced communication systems have replaced the systems described in the RG. The regulations discussing communication are established and measured by performance standards to meet communication objectives. The NRC's regulations do not specify radio communication systems described in this RG, and they are not used.

The discussion of radiotelephone communication requirements in RG 5.32 is no longer useful for current communication needs for protection of transport vehicles or shipments of radioactive materials. Other means of communication are available which provide sufficient flexibility to meet performance objectives required by 10 CFR part 73.

II. Further Information

The withdrawal of Regulatory Guide 5.32 does not alter any prior or existing licensing commitments or conditions based on its use. The guidance provided in this regulatory guide is neither necessary nor current. Regulatory guides may be withdrawn when their guidance is superseded by congressional action or no longer provides useful information, or due to changes in technology or methodology.

Dated at Rockville, Maryland, this 6th day of July 2012.
For the Nuclear Regulatory Commission.
Harriet Karagiannis,
Acting Chief, Regulatory Guide Development Branch, Division of Engineering, Office of Nuclear Regulatory Research.

[FR Doc. 2012-16906 Filed 7-10-12; 8:45 am]

BILLING CODE 7590-01-P